DEPARTMENT OF VETERANS AFFAIRS

[OMB Control No. 2900-New (VA Form 0924)]

Proposed Information Collection (VA National Rehabilitation Special Events, Event Registration Applications); Comment Request

AGENCY: Office of National Programs and Special Events, Department of Veterans Affairs.

ACTION: Notice.

SUMMARY: The Office of National Programs and Special Events (NPSE), Department of Veterans Affairs (VA), is announcing an opportunity for public comment on the proposed collection of certain information by the agency. Under the Paperwork Reduction Act (PRA) of 1995, Federal agencies are required to publish notice in the Federal Register concerning each proposed collection of information, including each proposed collection in use without an OMB control number, and allow 60 days for public comment in response to the notice. This notice solicits comments for information needed to participant in VA national rehabilitation special events.

DATES: Written comments and recommendations on the proposed collection of information should be received on or before April 30, 2010.

ADDRESSES: Submit written comments on the collection of information through the Federal Docket Management System (FDMS) at http://www.Regulations.gov; or to Matt Bristol, Office of National Programs and Special Events (002C), Department of Veterans Affairs, 810 Vermont Avenue, NW., Washington, DC 20420 or e-mail: matt.bristol@va.gov. Please refer to “OMB Control No. 2900-New (VA Form 0924)” in any correspondence. During the comment period, comments may be viewed online through FDMS.

FOR FURTHER INFORMATION CONTACT: Matt Bristol at (202) 461-7447 or FAX (202) 273-5717.

SUPPLEMENTARY INFORMATION: Under the PRA of 1995 (Pub. L. 104-13; 44 U.S.C. 3501—21), Federal agencies must obtain approval from the Office of Management and Budget (OMB) for each collection of information they conduct or sponsor. This request for comment is being made pursuant to Section 3506(c)(2)(A) of the PRA.

With respect to the following collection of information, NSPE invites comments on: (1) Whether the proposed collection of information is necessary for the proper performance of NSPE's functions, including whether the information will have practical utility; (2) the accuracy of NPSE's estimate of the burden of the proposed collection of information; (3) ways to enhance the quality, utility, and clarity of the information to be collected; and (4) ways to minimize the burden of the collection of information on respondents, including through the use of automated collection techniques or the use of other forms of information technology.

Titles:

a. National Disabled Veterans Winter Sports Clinic Application, VA Form 0924—233 hours.

b. National Veterans Wheelchair Games Application, VA Form 0925—238 hours.

c. National Veterans Golden Age Games Application, VA Form 0926—533 hours.

d. National Veterans TEE Tournament Application, VA Form 0927—133 hours.

e. National Veterans Summer Sports Clinic Application, VA Form 0928—53 hours.

f. National Veterans Creative Arts Festival Application, VA Form 0929—67 hours.

OMB Control Number: 2900-New (VA Form 0924).

Type of Review: Existing collection in use without an OMB control number.

Abstract: Veterans who are enrolled for VA health care may apply to participate in therapeutic rehabilitation programs such as the National Veterans Wheelchair Games, National Veterans Golden Age Games, National Veterans Creative Arts Festival, National Veterans TEE Tournament, National Disabled Veterans Winter Sports Clinic and the National Veterans Summer Sports Clinic. The data collected will be used to plan, distribute and utilize resources and to allocate clinical and administrative support to patient treatment services.

Affected Public: Individuals or households.

Estimated Annual Burden:

a. VA Form 0924—233 hours.

b. VA Form 0925—238 hours.

c. VA Form 0926—533 hours.

d. VA Form 0927—133 hours.

e. VA Form 0928—53 hours.

f. VA Form 0929—67 hours.

Estimated Average Burden per Respondent: 20 minutes.

Frequency of Response: On occasion.

Estimated Number of Respondents:

a. VA Form 0924—700.

b. VA Form 0925—715.

c. VA Form 0926—1,600.

d. VA Form 0927—400.

e. VA Form 0928—160.

f. VA Form 0929—200.

Dated: February 23, 2010.
By direction of the Secretary.
Denise McLamb,
Program Analyst, Enterprise Records Service.

[FR Doc. 2010-4063 Filed 2-26-10; 8:45 am]

BILLING CODE 8320-01-P